DEPARTMENT OF TRANSPORTATION

National Highway Traffic Safety Administration

Information Collection Activities: Submission for the Office of Management and Budget (OMB) Review; Request for Comment

AGENCY: National Highway Traffic Safety Administration (NHTSA), DOT.

ACTION: Notice of the OMB review of information collection and solicitation of public comment.

SUMMARY: In compliance with the Paperwork Reduction Act of 1995 (44 U.S.C. chapter 35), this notice announces that the Information Collection Request (ICR) abstracted below will be submitted to the Office of Management and Budget (OMB) for review. The ICR describes the nature of the information collection and its expected burden. A Federal Register Notice with a 60-day comment period soliciting public comments on the following information collection was published on September 5, 2013 (FR/Vol. 78, No. 172/pp. 54727-54729).

DATES: Submit comments to the Office of Management and Budget (OMB) on or before January 27, 2014.

FOR FURTHER INFORMATION CONTACT: Kristie Johnson at the National Highway Traffic Safety Administration, Office of Behavioral Safety Research (NTI-131), W46-198, Department of Transportation, 1200 New Jersey Avenue SE., Washington, DC 20590. Dr. Johnson's phone number is 202-366-2755 and her email address is kristie.johnson@dot.gov

ADDRESSES: Send comments regarding the burden estimate, including suggestions for reducing the burden, to the Office of Information and Regulatory Affairs, Office of Management and Budget, 725 17th Street NW., Washington, DC 20503, Attention: Desk Officer for Department of Transportation, National Highway Traffic Safety Administration, or by email at oira_submission@omb.eop.gov, or fax: 202-395-5806.

SUPPLEMENTARY INFORMATION:

Title—Evaluation of a New Child Pedestrian Curriculum.

Type of Review—Regular.

OMB Clearance Number—None.

Form Number—NHTSA Forms 1215, 1216, and 1217.

Respondents—All K-5 students in two test schools and two comparison schools will be surveyed. The project will conduct a survey of parents or other student caregivers for both the test and comparison schools. Only one caregiver per student will complete the survey. An Internet-based survey of all instructors and administrators at the test and comparison schools is included.

Estimated Number of Respondents—2,000 students; 2,000 caregivers; 200 instructors and school staff.

Estimated Time per Response—5 minutes per student survey; 5 minutes per caregiver survey; 5 minutes per instructor/staff survey.

Total Estimated Annual Burden Hours—516.67 hours (total for the study).

Frequency of Collection—Student surveys will take place twice; once before curriculum implementation and once after implementation is complete. Caregiver and instructor/staff surveys will take place once—after curriculum implementation.

Abstract—Schools and broader communities around the country have been working to foster a generation of healthy, active children. Children and adults alike are being encouraged to walk as a way to get some of the physical activity we all need. Schools have taken up the challenge to help equip students with the skills they need to be safe pedestrians throughout their lifetimes. The National Highway Traffic Safety Administration (NHTSA) developed a new Child Pedestrian Safety Curriculum to teach and encourage safe pedestrian behaviors for students at the elementary school level (grades K-5). The overall goal of the curriculum is to aid elementary age school children in developing age appropriate traffic safety knowledge and practical pedestrian safety skills. The curriculum is organized into five lessons that target key areas of pedestrian safety and are designed to meet national learning standards. The participating schools are located in the State of North Carolina because North Carolina included the NHTSA curriculum as part of its Let's Go NC pedestrian and bicycle safety school curriculum.

The study has two objectives: (1) to evaluate how implementation of the curriculum is achieved by schools, instructors, and caregivers as a means of developing best practice guidance; and (2) to assess the effectiveness of the curriculum in instilling correct knowledge and behaviors in young pedestrians. To achieve these objectives, the study is conducting in-person oral surveys of students, a paper-and-pencil self-report survey of the students' caregivers, and an Internet-based survey of instructors and other staff at two schools implementing the curriculum and two similar comparison schools in the same school district that are not implementing the curriculum. The study will also collect behavioral observations of students to determine if behaviors have changed relative to the implementation of the curriculum. No personal information will be collected that would allow any respondent to be identified.

Comments Are Invited On: Whether the proposed collection of information is necessary for the proper performance of the functions of the Department of Transportation, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication of this notice.

Authority: 44 U.S.C. 3506(c)(2)(A)

Issued on: December 20, 2013.
Jeff Michael,
Associate Administrator, Research and Program Development.

[FR Doc. 2013-30860 Filed 12-24-13; 8:45 am]

BILLING CODE 4910-59-P